DEPARTMENT OF THE INTERIOR

Bureau of Land Management

[LLES956000-L14200000-BK0000]

Eastern States: Filing of Plat of Survey

AGENCY: Bureau of Land Management, Interior.

ACTION: Notice.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 during normal business hours. The FIRS is available 24 hours a day, 7 days a week, to leave a message or question. You will receive a reply during normal business hours.

SUPPLEMENTARY INFORMATION: The survey was requested by the Eastern States Jackson Field Office of the Bureau of Land Management.

The lands surveyed are:

Tallahassee Meridian, Florida

T. 16 and 17 S., R. 34 E.

On Thursday, March 14, 2013, there was published in the Federal Register, Volume 78, Number 50, on page 16294 a notice entitled “Eastern States: Filing of Plat of Survey”. In said notice was a supplemental plat, accepted January 29, 2013, which depicts Sections 32 and 33, Township 16 South, Range 34 East, and Sections 4 and 5, Township 17 South, Range 34 East, Tallahassee Meridian, Volusia county, in the State of Florida, made for the purpose of establishing descriptions of the subdivisions thereof, with areas by which the public lands may be disposed.

The official filing of the plat is hereby stayed, pending the correction of errors.

The first plat that was accepted January 29, 2013 will be cancelled when the second plat accepted April 17, 2014, is officially filed.

Dated: June 9, 2014.
Dominica Van Koten,
Chief Cadastral Surveyor.

[FR Doc. 2014-13865 Filed 6-12-14; 8:45 am]

BILLING CODE 4310-GJ-P